DEPARTMENT OF THE INTERIOR

Geological Survey

Federal Geographic Data Committee (FGDC); Application Notice Announcing the Opening Date for Transmittal of Applications for Funding Assistance Under the FGDC National Spatial Data Infrastructure (NSDI) Cooperative Agreements Program (CAP) for Fiscal Year (FY) 2003

AGENCY: Geological Survey, Department of the Interior.

ACTION: Notice inviting applications for the NSDI Cooperative Agreements Program Awards for FY 2003, with performance to begin in August 2003 through September 2004.

SUMMARY: The purpose of the NSDI Cooperative Agreements Program is to facilitate and foster partnerships, alliances, and technology within the among various public and private entities to assist in building the NSDI. The NSDI consists of technologies, policies, organizations and people necessary to promote cost-effective production, ready availability, and greater utilization of high quality geospatial data among a variety of sectors, disciplines and communities.

The FY 2003 NSDI Cooperative Agreements Program will fund projects in five categories of activities: (1) Metadata implementation assistance, (2) metadata trainer assistance, (3) metadata outreach, (4) clearinghouse integration with OpenGIS services, and (5) U.S. and Canadian Spatial Data Infrastructure development. Applications may be submitted by Federal agencies, State and local government agencies, educational institutions, private firms, non-profit foundations, and Federally acknowledge or state-recognized Native American tribes or groups. Applications from Federal agencies will not be competed against applications from other sources. Authority for this program is contained in the Organic Act of March 3, 1879, 43 U.S.C. 31 and Executive Order 12906.

DATES: The program announcements and application forms for the FY 2003 NSDI Cooperative Agreements Program are expected to be available on or about March 3, 2003. Applications must be received on or before May 2, 2003.

ADDRESSES: Copies of each Program Announcement #03HQPA0006 for the NSDI Cooperative Agreements Program will be available through the Internet at http://www.usgs.gov/contracts/index.html and http://www.fgdc.gov. Copies of Program Announcement #03HQPA0006 may also be obtained by writing to Karen Staubs, U.S. Geological Survey, Office of Acquisition and Grants, National Assistance Programs Branch, MS 205G, 12201 Sunrise Valley Drive, Reston, Virginia 20192, or emailing kstaubs@usgs.gov. Requests must be in writing; verbal requests will not be honored.

FOR FURTHER INFORMATION CONTACT:

For NSDI technical information contact: David Painter, U.S. Geological Survey, Federal Geographic Date Committee, MS 590, 12201 Sunrise Valley Drive, Reston, Virginia 20192; 703-648-5513, fax 703-648-5755, e-mail dpainter@fgdc.gov.

For the NSDI Cooperative Agreements Program contact: Ms. Karen Staubs, U.S. Geological Survey, Office of Acquisition and Grants, National Assistance Programs Branch, MS 205G, 12201 Sunrise Valley Drive, Reston, Virginia 20192; 703-648-7393, fax 703-648-7901, e-mail kstaubs@usgs.gov.

SUPPLEMENTARY INFORMATION: Under the NSDI Cooperative Agreements Program a total of $1,000,000 is available for award.

2003 NSDI Cooperative Agreement Program Categories:

Category 1: “Don't Duck Metadata:” Metadata Implementation and Creation Assistance. The objectives for this category are the documentation of geospatial data through metadata creation and serving that documentation on the Internet through a NSDI clearinghouse. Under this category funds are provided for organizations needing assistance in receiving metadata training and in metadata creation.

Category 2: “Don't Duck Metadata:” Metadata Trainer Assistance. Funding in this category is for those organizations and individual that can provide training assistance to other organizations in becoming skilled and knowledgeable in metadata creation.

Category 3: “Don't Duck Metadata:” Metadata Outreach Assistance. Funding in this category is for organizations with robust metadata programs to extend their programs and assist other organizations with resources and staff in innovative approaches to the implementation and service of metadata.

Category 4: Clearinghouse Integration with OpenGIS services will provide funding to extend existing Clearinghouse Nodes with OpenGIS Consortium (OGC) complaint web mapping service capabilities and related standards-based services in a consistent way.

Category 5: Canadian/U.S. Spatial Data Infrastructure Project will provide funding assistance to support a collaborative project between organizations in the U.S. and Canada to coordinate, create, maintain and share geospatial data to support decision-making over a common geography. The FGDC in partnership with the GeoConnections of Natural Resources Canada will fund lead organizations in their respective countries in a collaborative cross-border project.

Dated: January 15, 2003.
Patricia P. Dunham,
Deputy Chief, Office of Administrative Policy and Services.

[FR Doc. 03-5446 Filed 3-6-03; 8:45 am]

BILLING CODE 4410-Y7-M